FEDERAL COMMUNICATIONS COMMISSION

Public Information Collection Approved by Office of Managemnet and Budget

July 17, 2002.

The Federal Communications Commission (FCC) has received Office of Management and Budget (OMB) approval for the following public information collections pursuant to the Paperwork Reduction Act of 1995, Public Law 96-511. An agency may not conduct or sponsor a collection of information unless it displays a currently valid control number. Not withstanding any other provisions of law, no person shall be subject to any penalty for failing to comply with a collection of information subject to the Paperwork Reduction Act (PRA) that does not display a valid control number. Questions concerning the OMB control numbers and expiration dates should be directed to Judith Boley Herman, Federal Communications Commission, (202) 418-0214.

Federal Communications Commission

OMB Control No.: 3060-0954.

Expiration Date: 07/31/05.

Title: Implementation of the 911 Act.

Form No.: N/A.

Respondents: Business, not-for-profit institutions, and State, local, or tribal Government Entities.

Responses: 800.

Estimated Time Per Response: 4.5 hours.

Total Annual Burden: 3,100 hours.

Total Annual Cost: 0.

Description: The burdens are all needed to ensure prompt and smooth transition to universal 911 emergency calling services.

OMB Control No.: 3060-0987.

Expiration Date: 06/30/05.

Title: 911 Callback Capability; Non-initialized Phones.

Form No.: N/A.

Respondents: Business, State, local, or tribal Government Entities.

Responses: 3,137.

Estimated Time Per Response: 1 to 3 hours.

Total Annual Burden: 4,885 hours.

Total Annual Cost: $661.00.

Description: The labeling requirement, education requirement, and software/coding requirement are all needed to make all parties involved in emergency calls originating from non-initialized and “911-only” phones aware that the calling party cannot be reached for further information, if necessary. Thus, complete, critical location information must be supplied to the PSAP as quickly as possible in the originating call.

OMB Control No.: 3060-0813.

Expiration Date: 06/30/05.

Title: Revision of the Commission's Rules to Ensure Compatibility with Enhanced 911 Calling Systems.

Form No.: N/A.

Respondents: Business or other for-profit, Federal Government, and State, local, or tribal Governments.

Responses: 47,031.

Estimated Time Per Response: 4 hours.

Total Annual Burden: 198,200 hours.

Total Annual Cost: 0.

Description: The burdens are all needed to ensure that transition to wireless Enhanced 911 service is achieved in as smooth and timely fashion as technologically possible, with minimum burden on all concerned parties, including carriers, manufacturers, and PSAPs, while still achieving the important, public safety goals of the proceeding.

Federal Communications Commission.
Marlene H. Dortch,
Secretary.

[FR Doc. 02-18790 Filed 7-24-02; 8:45 am]

BILLING CODE 6712-01-P